DEPARTMENT OF STATE

[Public Notice 11270]

60-Day Notice of Proposed Information Collection: Refugee Biographic Data

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to February 8, 2021.

ADDRESSES: You may submit comments by any of the following methods:

• Web: Persons with access to the internet may comment on this notice by going to www.Regulations.gov. You can search for the document by entering “Docket Number: DOS-2020-0052” in the Search field. Then click the “Comment Now” button and complete the comment form.

• Email: PRM-Comments@state.gov.

• Regular Mail: Send written comments to: Delicia Spruell, PRM/Admissions, 2025 E Street NW, SA-9, 8th Floor, Washington, DC 20522-0908.

• Fax: (202) 453-9393.

You must include the DS form number (if applicable), information collection title, and the OMB control number in any correspondence.

FOR FURTHER INFORMATION CONTACT: Direct requests for additional information regarding the collection listed in this notice, including requests for supporting documents, to Delicia Spruell, (202) 453-9257, PRM/Admissions, 2025 E Street NW, SA-9, 8th Floor, Washington, DC 20522-0908.

SUPPLEMENTARY INFORMATION: • Title of Information Collection: Refugee Biographic Data.

• OMB Control Number: 1405-0102.

• Type of Request: Revision of a Currently Approved Collection.

• Originating Office: Bureau of Population, Refugees, and Migration, Office of Admissions, PRM/A.

• Form Number: No form.

• Respondents: Refugee applicants for the U.S. Refugee Admissions Program.

• Estimated Number of Respondents: 15,000.

• Estimated Number of Responses: 10,124.

• Average Time per Response: 3 hours.

• Total Estimated Burden Time: 30,372 hours.

• Frequency: Once per respondent.

• Obligation to Respond: Required to obtain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Refugee Biographic Data Sheet describes a refugee applicant's personal characteristics and is needed to initiate refugee resettlement processing, adjudicate the refugee applicant's application for admission to the United States, to run security checks on refugees by intelligence and federal law enforcement agencies, to conduct medical screenings, and to plan international travel before a refugee applicant can be permitted to travel to the United States. In addition, the information is used to match the refugee with a sponsoring voluntary agency for initial reception and placement in the U.S. under the United States Refugee Admissions Program administered by the Bureau of Population, Refugees, and Migration.

The information collected includes date and place of birth, gender, contact information, including social media handles, marital status, family ties, religion, ethnic group, background, education, occupation, skills, medical information, English language ability, associated family members' refugee resettlement cases, and identity documents. The data is used to initiate refugee resettlement processing, to adjudicate the refugee claim by USCIS, to run security checks on refugees by the federal law enforcement and intelligence community before refugees can be permitted to travel to the United States. Data is also provided to conduct a medical screening before the refugee's arrival in the United States, to plan the refugee's international travel, and to resettlement agencies to determine an appropriate resettlement location in the United States. If the data were not collected, refugees could not be properly vetted by the federal law enforcement and intelligence community, and therefore refugee applicants could no longer be processed through the U.S. Refugee Admissions Program. In addition, the resettlement agencies would not be able to provide appropriate initial reception and placement services as provided for in the Refugee Act.

Methodology

Biographic information is collected in a face-to-face intake process with the applicant overseas. An employee of a Resettlement Support Center, under cooperative agreement with PRM, collects the information and enters it into the Worldwide Refugee Admissions Processing System.

Zachary Parker,
Director.

[FR Doc. 2020-26967 Filed 12-7-20; 8:45 am]

BILLING CODE 4710-33-P